ENVIRONMENTAL PROTECTION AGENCY

40 CFR Part 52

[EPA-R06-OAR-2007-0924; FRL-9270-6]

Approval and Promulgation of Air Quality Implementation Plans, State of Louisiana

AGENCY: Environmental Protection Agency (EPA).

ACTION: Proposed rule.

SUMMARY: EPA is proposing to approve portions of State Implementation Plan (SIP) revisions for the State of Louisiana. The rule revisions, which cover the years 1996-2006, were submitted by the State of Louisiana, and include formatting changes, regulatory wording changes, substantive or content changes, and incorporation by reference (IBR) of Federal rules. These cumulative revisions affect Louisiana Administrative Code (LAC) 33:III, Chapters 1, 7, 9, 11, 13, 14, 15, 19, 21, 22, 23, 25, 30, 60, 61, and 65. The overall intended outcome is to make the approved Louisiana SIP consistent with current Federal and State requirements. We are approving the revisions in accordance with 110 of the Clean Air Act (CAA or Act) and EPA's regulations.

DATES: Written comments must be received on or before March 28, 2011.

ADDRESSES: Submit your comments, identified by Docket No. EPA-R06-OAR-2007-0924 by one of the following methods:

• Federal Rulemaking Portal: http://www.regulations.gov. Follow the on-line instructions for submitting comments.

• U.S. EPA Region 6 “Contact Us” Web site: http://epa.gov/region6/r6coment.htm. Please click on “6PD” (Multimedia) and select “Air” before submitting comments.

• E-mail: Mr. Guy Donaldson at donaldson.guy@epa.gov. Please also send a copy by e-mail to the person listed in the FOR FURTHER INFORMATION CONTACT section below.

• Fax: Mr. Guy Donaldson, Chief, Air Planning Section (6PD-L), at fax number 214-665-7263.

• Mail: Mr. Guy Donaldson, Chief, Air Planning Section (6PD-L), Environmental Protection Agency, 1445 Ross Avenue, Suite 1200, Dallas, Texas 75202-2733.

• Hand or Courier Delivery: Mr. Guy Donaldson, Chief, Air Planning Section (6PD-L), Environmental Protection Agency, 1445 Ross Avenue, Suite 1200, Dallas, Texas 75202-2733. Such deliveries are accepted only between the hours of 8 a.m. and 4 p.m. weekdays except for legal holidays. Special arrangements should be made for deliveries of boxed information.

Instructions: Direct your comments to Docket ID No. EPA-R06-OAR-2007-0924. EPA's policy is that all comments received will be included in the public docket without change and may be made available online at http://www.regulations.gov, including any personal information provided, unless the comment includes information claimed to be Confidential Business Information (CBI) or other information the disclosure of which is restricted by statute. Do not submit information through http://www.regulations.gov or e-mail that you consider to be CBI or otherwise protected from disclosure. The http://www.regulations.gov Web site is an anonymous access system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Air Planning Section (6PD-L), Environmental Protection Agency, 1445 Ross Avenue, Suite 700, Dallas, Texas 75202-2733. The file will be made available by appointment for public inspection in the Region 6 FOIA Review Room between the hours of 8:30 a.m. and 4:30 p.m. weekdays except for legal holidays. Contact the person listed in the FOR FURTHER INFORMATION CONTACT paragraph below to make an appointment. If possible, please make the appointment at least two working days in advance of your visit. There will be a fee of 15 cents per page for making photocopies of documents. On the day of the visit, please check in at the EPA Region 6 reception area at 1445 Ross Avenue, Suite 700, Dallas, Texas 75202-2733.

FOR FURTHER INFORMATION CONTACT: Ms. Sandra Rennie, Air Planning Section (6PD-L), Environmental Protection Agency, Region 6, 1445 Ross Avenue, Suite 700, Dallas, Texas 75202-2733, telephone (214) 665-7367, fax (214) 665-7263, e-mail address rennie.sandra@epa.gov.

SUPPLEMENTARY INFORMATION: Throughout this document whenever “we,” “us,” or “our” is used, we mean EPA.

Table of Contents

I. What action is EPA taking?

II. Background

III What is being addressed in this document?

IV Why can we approve these revisions?

V. What are some of the substantive rule changes?

VI. Proposed Action

VII. Statutory and Executive Order Reviews

I. What action is EPA taking?

We are proposing to approve revisions to the Louisiana SIP, submitted by the LDEQ from 1996-2006. The revisions affect the Louisiana Administrative Code, the official compilation of Agency rules for the State of Louisiana. The revisions apply to LAC 33:III, Chapters 1, 7, 9, 11, 13, 14, 15, 19, 21, 23, 25, 30, 60, 61, and 65 as specified in Table 2. These revisions were submitted for approval during the years 1996-2006. The revisions make corrections or changes that align the SIP with State and Federal regulations.

II. Background

The Baton Rouge nonattainment area was first designated nonattainment in 1978 (43 FR 8964, 8998). In 1991, the area was designated nonattainment for the 1-hour ozone standard by operation of law under the Clean Air Act Amendments of 1990 (56 FR 56694) as a 6-parish nonattainment area (Ascension, East Baton Rouge, Iberville, Livingston, Pointe Coupee, and West Baton Rouge Parishes). The area was classified as a serious nonattainment area with an attainment date of November 15, 1999. Pointe Coupee Parish was later reclassified to marginal and redesignated to attainment (62 FR 648, January 6, 1997) while the 5-parish area remained designated nonattainment. After the 5-parish area failed to attain the 1-hour standard in 1999, it was “bumped up” to the severe classification by operation of law with an effective date of June 23, 2003, and an attainment date of November 15, 2005 (79 FR 20077, April 24, 2003).

Under EPA's 1997 8-hour ozone standard, the Baton Rouge area was classified as marginal on April 15, 2004 with an attainment date of June 15, 2007. After the area failed to attain the 1997 8-hour standard, EPA reclassified the Baton Rouge area to moderate with an attainment date of June 15, 2010.

As of December 31, 2008, the Baton Rouge area monitored attainment of the 1-hour ozone standard and the 1997 8-hour ozone standard for the 2006-2008 monitoring period and continues to attain both standards. On February 10, 2010, EPA issued a final determination that the Baton Rouge area has attained the 1-hour ozone standard (75 FR 6570). On September 9, 2010, EPA issued a final determination that the Baton Rouge area has attained the 1997 8-hour ozone standard (75 FR 54778).

We also approved all requirements for a 1-hour serious area attainment demonstration for the 5-parish area on July 2, 1999 (64 FR 35930). We are now proposing to approve numerous general SIP rule revisions submitted since 1996.

III. What is being addressed in this document?

The State of Louisiana has submitted numerous SIP revisions for EPA approval from the years 1996 to 2006.

The revisions were submitted to EPA according to the schedule in Table 1.

Table 1—Louisiana Rule Revisions to the State Implementation Plans (SIP)
Submitted to EPA by the Governor of Louisiana or his designee on | For the Rules adopted into the SIP during calendar year | Revisions to LAC 33:III Chapters
April 30, 1997 | 1996 | 1, 15, 21, 25, 29, 30, 31, 60, 61, 64.
July 25, 1997 | 1996 and earlier | 1, 2, 5, 7, 9, 11, 13, 21, 23, 25, 30, 31, 60, 64, 65.
June 22, 1998 | 1997 | 2, 5, 13, 15, 21, 23, 25.
February 2, 2000 | 1998 | 5, 6, 11, 15, 21, 23, 25.
January 27, 2003 | 1999-2001 | 2, 5, 6, 11, 19, 21, 61.
June 27, 2003 | 2002 | 5.
September 14, 2004 | 2003 | 9, 21.
June 3, 2005 | 2004 | 2, 21.
May 5, 2006 | 2005 | 2, 5, 6, 9, 11, 14, 15, 21, 22, 23.
June 15, 2005 | Baton Rouge Severe Area Rule Update | 5, 21, 22.
November 9, 2007 | 2006 | 1, 5, 7, 9, 23.

These cumulative revisions affect LAC 33:III, Chapters 1, 2, 5, 6, 7, 9, 11, 13, 14, 15, 19, 21, 22, 23, 25, 30, 60, 61, and 65. This action addresses revisions in all but Chapters 2, 5, and 6.

The revisions being acted upon are comprised of format changes, nonsubstantive regulatory wording changes, content or substantive changes, and incorporations by reference (IBR) of Federal rules. Format changes are revisions that affect the overall structure and arrangement of the LAC. These changes, among other things, involve moving an item from one section to another, repealing and replacing whole chapters, renumbering, repositioning contents. Nonsubstantive regulatory wording changes are revisions that do not dramatically affect the content of the rule but do add clarity. These changes, among other things, may appear in the form of corrections for typographical errors, grammatical errors, minor language changes, updating revisions, and changing reference citations that clarify the current rule. Content or substantive changes are revisions that alter the original meaning of the rule in a noticeable or significant manner. These revisions, among other things, may be in the form of an addition of a compound on an exemption list, modifications to requirements, fee increases, creation of new requirements. Incorporation by reference revisions make the State's rules consistent with Federal regulations by referring to the Federal requirements that apply to the State's rule.

The revisions being acted upon are described in detail in the Technical Support Document and listed in Table 2.

The most notable format changes were made in Chapters 60, 61, and 65. These Chapters were repealed and the contents moved to other existing chapters. Highlights of certain content or substantive changes are summarized in Section V.

Some revisions submitted by the State during the years of 1996-2006 are not being acted upon by the EPA at this time for several reasons: (1) EPA plans to review and act upon several revisions, such as Chapter 2 and Chapter 5, in a separate action, (2) Some submitted revisions did not require further action because they were either superseded by subsequent submittals, made moot by prior approvals, already approved (Chapter 6), replaced by other program rules (sections 1901-1935), or submitted just for clarifying purposes; (3) EPA is not acting on certain revisions in LAC 33:III sections 927, 1109, 1507, 1509, 2103, 2104, 2107, 2120, 2129, 2133, 2160, 2531, and a resubmittal of 2156-2160 because the State requested that we not act on certain revisions in a letter dated January 25, 2011. In the last case, we find that not acting on these revisions does not affect the approvability of the other revisions under consideration. We are also not acting on LAC 33:III sections 1901-1935 (vehicle inspection and maintenance) because the program for which these rules were written was never implemented, and we subsequently approved a substitute program in 67 FR 60594, September 26, 2002.

Table 2—Revisions Proposed for Approval
State citation | Title/subject | State adoption date
LAC Title 33. Environmental Quality Part III. Air
Chapter 1. General Provisions
* * * * * * *
Section 111 | Definitions | 10/20/95
Section 111 | Definitions | 12/20/96
Section 111 | Definitions | 9/20/06
* * * * * * *
Chapter 7. Ambient Air Quality
Section 701.C | Purpose | 10/20/95
Section 709.A | Measurement of Concentrations—PM10, PM2.5, Sulfur Dioxide, Carbon Monoxide, Atmospheric Oxidants, Nitrogen Oxides, and Lead | 9/20/06
Section 711 | Tables 1, la, 2—Air Quality | 9/20/06
* * * * * * *
Chapter 9. General Regulation on Control of Emissions and Emission Standards
* * * * * * *
Section 907 | General Regulations on Control of Emissions and Emission Standards | 9/20/95
Section 918 | Recordkeeping and Annual Reporting | 10/20/05
Section 919-919.A.6 | Emissions Inventory | 2/20/06
Section 919.B.1 | Types of Inventories | 2/20/06
Section 919.B.2.-919.B.5.g.v | Types of Inventories | 12/20/03
Section 919.C | Calculations | 2/20/06
Section 919.D.-F | Reporting Requirements Enforcement Fees | 12/20/03
* * * * * * *
Chapter 11. Control of Emissions of Smoke
Section 1101.A | Control of Air Pollution from Smoke. Purpose | 10/20/95
Section 1105.A | Smoke from Flaring Shall Not Exceed 20 Percent Opacity | 7/20/05
Section 1107.A | Exemptions | 7/20/05
Section 1109.A | Control of Air Pollution from Outdoor Burning | 10/20/95
Section 1109.B | Control of Air Pollution from Outdoor Burning | 4/20/98
Section 1109.E.-ll09.F | Control of Air Pollution from Outdoor Burning | 4/20/98
* * * * * * *
Chapter 13. Emission Standards for Particulate Matter (Including Standards for Some Specific Facilities)
Subchapter A. General
* * * * * * *
Section 1303.A | Toxic Substances | 10/20/95
Section 1311.C.-1311.D | Emission Limits | 6/20/97
* * * * * * *
Subchapter D | Refuse Incinerators | 10/20/94
* * * * * * *
Section 1319 | Refuse Incinerators | 10/20/94
* * * * * * *
Chapter 14. Conformity
* * * * * * *
Section 1410.A.5.a.i | Criteria for Determining Conformity of General Federal Actions | 10/20/05
* * * * * * *
Chapter 15. Emission Standards for Sulfur Dioxide
Section 1503 | Emission Standards for Sulfur Dioxide. Emission Limitations | 7/20/98
Section 1507 | Emission Standards for Sulfur Dioxide. Exceptions | 7/20/98
Section 1511.B | Continuous Emission Monitoring | 12/20/96
* * * * * * *
Chapter 19. Mobile Sources
Section 1951-1973 | Clean Fuel Fleet Rules | 3/20/00
* * * * * * *
Chapter 21. Control of Emission of Organic Compounds
Subchapter A. General
* * * * * * *
Section 2103.A.-2103.B | Storage of Volatile Organic Compounds | 5/20/99
Section 2103.C.-2103.D.4 | Storage of Volatile Organic Compounds | 6/20/96
2103.D.4.a | Storage of Volatile Organic Compounds | 10/20/05
Section 2103.D.4.b.-2103.D.4.d | Storage of Volatile Organic Compounds | 8/20/02
Section 2103.G.1.-2103.G.2 | Storage of Volatile Organic Compounds | 6/20/96
Section 2103.G.3.-2103.G.5 | Storage of Volatile Organic Compounds | 12/20/98
Section 2103.H.2.a.-d | Storage of Volatile Organic Compounds | 12/20/96
Section 2103.H.3 | Storage of Volatile Organic Compounds | 2/20/98
Section 2103.I.6 | Storage of Volatile Organic Compounds | 12/20/98
Section 2103.I.7 | Storage of Volatile Organic Compounds | 8/20/02
Section 2104.A | Crude Oil and Condensate | 4/20/04
Section 2104.B.-2104.C.1 | Crude Oil and Condensate | 11/20/97
Section 2104.C.2.-2104.C.4 | Crude Oil and Condensate | 4/20/04
Section 2104.D | Crude Oil and Condensate | 11/20/97
Section 2104.E | Crude Oil and Condensate | 4/20/04
Section 2104.F.-2104.F.2.d | Crude Oil and Condensate | 11/20/97
Section 2104.G | Crude Oil and Condensate | 11/20/97
Section 2107.E.1.-2 | Volatile Organic Compounds—Loading | 12/20/96
Section 2108.A | Marine Vapor Recovery | 4/20/04
Section 2108.C.2.-2108.C.3 | Marine Vapor Recovery | 1/20/98
Section 2108.D.4 | Marine Vapor Recovery | 4/20/04
Section 2108.E.1.a.i.-ii. and E.1.b | Marine Vapor Recovery | 12/20/96
Section 2108.E.2 | Marine Vapor Recovery | 7/20/98
Section 2108.E.3. and E.5 | Marine Vapor Recovery | 12/20/96
Section 2108.F.1 | Marine Vapor Recovery | 10/20/05
Section 2109.C.1.-4 | Oil/Water-Separation | 12/20/96
Section 2113.A | Housekeeping | 5/20/99
Section 2113.A.4 | Housekeeping | 10/20/05
Section 2115 | Waste Gas Disposal. Introductory paragraph | 4/20/04
Section 2115.A.-2115.G | Waste Gas Disposal | 2/20/98
Section 2115.H.1.a | Waste Gas Disposal | 4/20/04
Section 2115.H.2.-2115.H.3 | Waste Gas Disposal | 2/20/98
Section 2115.I.1.-4 | Waste Gas Disposal | 12/20/96
Section 2115.J | Waste Gas Disposal | 4/20/04
Section 2115.K.4 | Waste Gas Disposal | 2/20/98
Section 2115.M | Waste Gas Disposal | 2/10/98
Section 2117 | Exemptions | 2/20/99
Section 2121.A | Fugitive Emission Control | 8/20/04
Section 2121.B.1 | Fugitive Emission Control | 8/20/04
Section 2121.C.1.a.ii | Fugitive Emission Control | 7/20/00
Section 2121.C.3.b.-2121.C.3.c | Fugitive Emission Control | 8/20/04
Section 2121.C.4.h.i | Fugitive Emission Control | 1/20/98
Section 2121.D.1 | Fugitive Emission Control | 12/20/95
Section 2121.F | Fugitive Emission Control | 10/20/05
Section 2121.G | Fugitive Emission Control | 8/20/04
Section 2122.A.-2122A.1 | Fugitive Emission Control for Ozone Nonattainment Areas | 8/20/04
Section 2122.A.2.-A.5 | Fugitive Emission Control for Ozone Nonattainment Areas | 8/20/02
Section 2122A.6.-6.d | Fugitive Emission Control for Ozone Nonattainment Areas | 7/20/98
Section 2122B | Fugitive Emission Control for Ozone Nonattainment Areas Definitions | 11/20/96
Section 2122B | Fugitive Emission Control for Ozone Nonattainment Areas Definitions | 12/20/96
Section 2122B | Fugitive Emission Control for Ozone Nonattainment Areas Definitions | 8/20/04
Section 2122C.1.a.-2122.C.1.b | Fugitive Emission Control for Ozone Nonattainment Areas | 8/20/04
Section 2122.C.1.c | Fugitive Emission Control for Ozone Nonattainment Areas | 11/20/96
Section 2122.C.1.d | Fugitive Emission Control for Ozone Nonattainment Areas | 7/20/98
Section 2122.C.4 | Fugitive Emission Control for Ozone Nonattainment Areas and Specified Parishes | 8/20/04
Section 2122.D.1.a | Fugitive Emission Control for Ozone Nonattainment Areas | 11/20/96
Section 2122.D.1.d-f | Fugitive Emission Control for Ozone Nonattainment Areas and Specified Parishes | 8/20/04
Section 2122.D.3.b | Fugitive Emission Control for Ozone Nonattainment Areas | 8/20/04
Section 2122.D.3.d | Fugitive Emission Control for Ozone Nonattainment Areas | 11/20/96
Section 2122.D.3.e | Fugitive Emission Control for Ozone Nonattainment Areas and Specified Parishes | 8/20/04
Section 2122.D.4.h | Fugitive Emission Control for Ozone Nonattainment Areas | 1/20/98
Section 2122.D.4.k.-l | Fugitive Emission Control for Ozone Nonattainment Areas | 11/20/96
Section E.1.-4 | Fugitive Emission Control for Ozone Nonattainment Areas and Specified Parishes | 12/20/96
Section 2122.E.1.g | Fugitive Emission Control for Ozone Nonattainment Areas and Specified Parishes | 8/20/04
Section 2122.E.3.-5 | Fugitive Emission Control for Ozone Nonattainment Areas and Specified Parishes | 8/20/04
Section 2122.G | Fugitive Emission Control for Ozone Nonattainment Areas and Specified Parishes | 10/20/05
Subchapter B. Organic Solvents
Section 2123.B.1 | Organic Solvents | 7/20/99
Section 2123.B.2 | Organic Solvents | 1/20/98
Section 2123.C | Organic Solvents | 1/20/98
Section 2123.C.11 | Organic Solvents | 5/20/96
Section 2123.C.11.b | Organic Solvents | 12/20/97
Section 2123.D.1 | Organic Solvents | 10/20/05
Section 2123.D.6 | Organic Solvents | 8/20/02
Section 2123.D.7.a | Organic Solvents | 4/20/04
Section 2123.E.6 | Organic Solvents | 7/20/98
Section 2123.G | Organic Solvents Definitions | 12/20/97
Section 2123.G | Organic Solvents Definitions | 1/20/98
Section 2123.H | Organic Solvents | 4/20/04
* * * * * * *
Subchapter E. Vapor Degreasers
Section 2125.D | Vapor Degreasers | 4/20/04
Section 2125.E.1.-4 | Vapor Degreasers | 12/20/96
* * * * * * *
Subchapter E
Subchapter E | Perchloroethylene Dry Cleaning System | 8/20/96
Section 2129 | Perchloroethylene Dry Cleaning System | 8/20/96
* * * * * * *
Subchapter F. Gasoline Handling
Section 2131.A | Filling of Gasoline Storage Vessels | 12/20/93
Section 2131.D.3 | Filling of Gasoline Storage Vessels | 2/20/01
Section 2131.E.1. and E.4 | Filling of Gasoline Storage Vessels | 12/20/96
* * * * * * *
Section 2132. Stage II Vapor Recovery Systems for Control of Vehicle Refueling Emissions at Gasoline Dispensing Facilities
Section 2132.A | Definitions | 12/20/97
Section 2132.A | Definitions | 4/20/03
Section 2132.B | Applicability | 1/20/98
Section 2132.B.4.a.-d | Applicability | 1/20/98
Section 2132.B.5 | Applicability | 4/20/03
Section 2132.B.6.b | Applicability | 12/20/97
Section 2132.B.6.c.iii | Applicability | 12/20/97
Section 2132.D | Testing | 12/20/97
Section 2132.D.2 | Testing | 4/20/03
Section 2132.E | Labeling | 12/20/97
Section 2132.F | Inspection | 12/20/97
Section 2132.G | Recordkeeping | 12/20/97
Section 2132.G.5 | Recordkeeping | 4/20/03
Section 2132.H | Enforcement | 12/20/97
Section H.1.a.-b | Enforcement | 4/20/03
Section 2132.I | Fees | 12/20/97
Section 2133.A.-E | Gasoline Bulk Plants | 6/20/95
Section 2133.D.2 | Gasoline Bulk Plants | 12/20/96
Section 2135.A | Bulk Gasoline Terminal | 1/20/98
Section 2135.D.1.-4 | Bulk Gasoline Terminal | 12/20/96
Section 2137.A.-A.1. and B.1 | Gasoline Terminal Vapor—Tight Control Procedure | 12/20/96
* * * * * * *
Subchapter G. Petroleum Refinery Operations
Section 2139.C | Refinery Vacuum Producing Systems | 5/20/98
* * * * * * *
Subchapter H. Graphic Arts
Section 2143.A | Graphic Arts (Printing) by Rotogravure and Flexographic Processes. Control Requirements | 4/20/04
Section 2143.A.1 | Graphic Arts (Printing) by Rotogravure and Flexographic Processes. Control Requirements | 10/20/99
Section 2143.B | Applicability Exemption | 4/20/04
Section 2143.C.1.-3 | Compliance | 12/20/96
Section 2143.E | Timing | 4/20/04
* * * * * * *
Subchapter I. Pharmaceutical Manufacturing Facilities
* * * * * * *
Section 2145.F.2.-3 | Pharmaceutical Manufacturing Facilities | 12/20/96
Section 2145.F.4 | Pharmaceutical Manufacturing Facilities | 1/20/98
* * * * * * *
Subchapter J. Limiting Volatile Organic Compound (VOC) Emissions from Reactor Processes and Distillation Operations in the Synthetic Organic Chemical Manufacturing Industry (SOCMI)
* * * * * * *
Section 2147.A.1 | Applicability | 4/20/04
Section 2147.B | Definitions | 12/20/96
Section 2147.B | Definitions | 11/20/97
Section 2147.D.1.a | Total Effectiveness Determination, Performance Testing, and Exemption Testing | 11/20/97
Section 2147.D.3.-2147.D.4 | Total Effectiveness Determination, Performance Testing, and Exemption Testing | 7/20/98
Section D.5.a., D.5.a.ii.(a)-(b), D.5.b.i. and iii., D.5.c.-f | Total Effectiveness Determination, Performance Testing, and Exemption Testing | 12/20/96
Section 2147.D.7.-2147.D.9 | Total Effectiveness Determination, Performance Testing, and Exemption Testing | 11/20/97
* * * * * * *
Subchapter K. Limiting Volatile Organic Compound (VOC) Emissions from Batch Processing
Section 2149.A.1 | Applicability | 4/20/04
Section 2149.E.2.a.c.i | Performance Testing | 12/20/96
* * * * * * *
Subchapter L. Limiting Volatile Organic Compound Emissions from Cleanup Solvent Processing
* * * * * * *
Section 2151.A | Limiting Volatile Organic Compound Emissions from Cleanup Solvent Processing | 4/20/04
Section 2151.B., 2151.C., 2151.C.2-C.3., 2151.D.-E | Limiting Volatile Organic Compound Emissions from Cleanup Solvent Processing | 1/20/98
Section 2151.F | Limiting Volatile Organic Compound Emissions from Cleanup Solvent Processing | 4/20/04
* * * * * * *
Subchapter M. Limiting VOC Emissions from Industrial Wastewater
* * * * * * *
Section 2153.A | Definitions | 5/20/99
Section 2153.A | Definitions | 4/20/04
Section 2153.B., 2153.B.1.d.-d.ii., 2153.B.3.-4.b | Control Requirements | 5/20/99
Section 2153.D.2.c., 2153.D.3.h.iii.(b)-4.b | Inspection and Monitoring Requirements | 5/20/99
Section 2153.E.1.-5 | Approved Test Methods | 12/20/96
Section 2153.E.7.-10 | Approved Test Methods | 5/20/99
Section 2153.F.5 | Recordkeeping Requirements | 5/20/99
Section 2153.H.1 | Determination of Wastewater Characteristics | 5/20/99
2153.I | Limiting VOC Emissions From Industrial Wastewater | 4/20/04
* * * * * * *
Subchapter N. Method 43 Capture Efficiency Test Procedures
* * * * * * *
Subchapter N | Subchapter N | 12/20/96
Section 2155 | Principle | 12/20/96
Section 2156.A | Definitions | 12/20/97
Section 2156.A | Definitions | 10/20/03
Section 2157.A | Applicability | 12/20/97
Section 2157.B | Applicability | 8/20/01
Section 2158.C.1.-4 | Specific Requirements | 8/20/01
Section 2159.D.-E | Recordkeeping and Reporting | 8/20/01
Section 2160 | Procedures | 12/20/96
Section 2160.A.-2160.B | Procedures | 8/20/01
Section 2160.C.4.d | Procedures | 7/20/98
Section 2160.D.4.d | Procedures | 7/20/98
Section 2199 | Appendix A | 11/20/97
* * * * * * *
Chapter 22. Control of Emissions of Nitrogen Oxides NOX
* * * * * * *
Section 2201.B | Definitions | 4/20/04
Section 2201.C.1.-3 | Exemptions | 4/20/04
Section 2201.C.8 | Exemptions | 4/20/04
Section 2201.D.1 | Emission Factors | 4/20/04
Section 2201.D.4 | Emission Factors | 4/20/04
Section 2201.F.1.a | Permits | 4/20/04
Section 2201.F.1.a.5 | Permits | 4/20/04
Section 2201.F.1.c | Permits | 4/20/04
Section 2201.F.7.a | Permits | 10/20/05
Section 2201.G.2 | Initial Demonstration of Compliance | 4/20/04
Section 2201.H1.b.iii | Continuous Demonstration of Compliance | 4/20/04
Section 2201.H.2 | Continuous Demonstration of Compliance | 4/20/04
Section 2201.H.3 | Continuous Demonstration of Compliance | 4/20/04
* * * * * * *
Chapter 23. Control of Emissions for Specific Industries
Subchapter A. Chemical Woodpulping Industry
Section 2301.D. and 2301.D.3 | Control of Emissions from the Chemical Woodpulping Industry Emission Limitations | 12/20/93
Section 2301.D.4.a | Control of Emissions from the Chemical Woodpulping Industry Emission Limitations | 10/20/05
Section 2301.E | Exemptions | 10/20/06
Subchapter B. Aluminum Plants
Section 2303.E | Standards for Horizontal Study Doderberg Primary Aluminum Plants and Prebake Primary Aluminum Plants. Monitoring | 10/20/05
Section 2303.F.1.d.2 | Standards for Horizontal Study Doderberg Primary Aluminum Plants and Prebake Primary Aluminum Plants. Reporting | 10/20/05
* * * * * * *
Subchapter D. Nitric Acid Industry
* * * * * * *
Section 2307.C.1.a | Emission Standards for the Nitric Acid Industry | 10/20/05
Section 2307.C.2.a | Emission Standards for the Nitric Acid Industry | 10/20/05
* * * * * * *
Chapter 25. Miscellaneous Incinerator Rules
* * * * * * *
Subchapter B. Biomedical Waste Incinerator
* * * * * * *
Section 2501 | Scope | 10/20/94
Section 2511 | Standards of Performance for Biomedical Waste Incinerators | 10/20/94
Section 2511.B | Definitions | 7/20/98
Section 2511.C | Registration | 10/20/05
Section 2511.E.5 | Restrictions on Emissions | 10/20/95
Section 2511.E.6.1.-5 | Restrictions on Emissions | 12/20/96
* * * * * * *
Subchapter C. Refuse Incinerators
Section 2521 | Refuse Incinerators | 10/20/94
Section 2521.E. and 2521.F.9.a.-d | Refuse Incinerators | 12/20/96
Section 2521.F.10 | Refuse Incinerators | 10/20/05
* * * * * * *
Chapter 30. Standards of Performance from New Stationary Sources (NSPS)
Chapter 30 | Standards of Performance from New Stationary Sources (NSPS) | 12/20/96
* * * * * * *
Chapter 60. Test Methods
Chapter 60 | Test Methods | 12/20/96
* * * * * * *
Chapter 61. Division's Source Test Manual
Chapter 61 | Division's Source Test Manual | 12/20/96
* * * * * * *
Chapter 65. Rules and Regulations of the Fee System of the Air Quality Control Program
Chapter 65 | Rules and Regulations of the Fee System of the Air Quality Control Program | 11/20/93
* * * * * * *

IV. Why can we approve these revisions?

The rule revisions submitted were examined for consistency with Federal policy, regulations, and the Clean Air Act. Each rule revision referred to in Table 2 of this document was reviewed separately and found to be approvable on its own merits. A detailed evaluation of each of the approved rules is contained in the Technical Support Document for this rulemaking.

V. What are some of the substantive rule changes?

In Chapter 7, ambient air quality standards were updated to reflect Federal standards that were current at the time of the revision.

All of chapter 19 was repealed. This chapter contained vehicle inspection and maintenance (I/M) rules that became obsolete when the I/M program was finally authorized and administered under the existing rules of the State safety inspection program. The I/M rules in chapter 19 had not been submitted for approval into the SIP, so no backsliding is implied by the repeal. In addition, clean fuel fleet rules were repealed from this chapter. Although these rules had been approved into the SIP, stationary source VOC (volatile organic compound) rules were substituted for the clean fuel fleet program, so no backsliding occurred. See 64 FR 38577, July 19, 1999.

There were a number of substantive changes in chapter 21. Under storage of volatile organic compounds (section 2103) LDEQ added (1) VOC requirements for Calcasieu and Pointe Coupee Parishes, (2) other acceptable methods for determining true vapor pressure, (3) additional record keeping requirements to verify compliance, and (4) an allowance for maintaining VOC control equipment. New requirements for crude oil and condensate in section 2104 add VOC control requirements for “flash gas” emissions from facilities that produce oil and natural gas, process natural gas, and transmit natural gas, which are consistent with the CAA.

The marine vapor recovery exemption in section 2108 is lowered to 25 tons per year to ensure RACT (Reasonably Available Control Technology) is in place. Similarly, the revisions to the waste gas disposal rules in section 2115 make sure RACT is in place for these vent streams.

The list of compounds exempt from VOC control requirements in section 2117 is expanded to keep the list up to date with the Federal list of exempted compounds. Changes in section 2122, Fugitive Emissions Control for Ozone Nonattainment Areas, improve the rule by making it more consistent with the Federal Leak Detection and Repair Program (LDAR) requirements.

The VOC requirements for vapor degreasers are strengthened in section 2125. Section 2129 concerning perchlorethylene is rescinded because EPA exempted “perc” from VOC control. St. Mary Parish is now included in the areas where filling of gasoline storage vessels is controlled in section 2131. A revision to section 2133 lowers the exemption threshold for gasoline bulk plants.

The following sections change the major source threshold from 50 to 25 tons per year (tpy) in the nonattainment parishes and 50 tpy in Pointe Coupee and Calcasieu Parishes: section 2143 pertaining to graphic arts and rotogravure and flexographic processes, 2147 that limits the VOC emissions from SOCMI (synthetic organic chemical manufacturing industry) reactor processes and distillation operations, 2149 that limits the VOC emissions from batch processes, 2151 that limits VOC emissions from cleanup solvent processes, and 2153 that limits VOC emissions from industrial wastewater. By lowering the applicability level, the revisions ensure that RACT is in place on 25 tpy and greater sources as required for severe ozone nonattainment areas.

VI. Proposed Action

We are proposing approval of rule revisions to LAC 33:III, Chapters 1, 7, 9, 11, 13, 15, 19, 21, 22, 23, 25, 30, 60, 61, and 65 as part of the Louisiana SIP as they appear in Table 2 above.

VII. Statutory and Executive Order Reviews

Under the Clean Air Act, the Administrator is required to approve a SIP submission that complies with the provisions of the Act and applicable Federal regulations. 42 U.S.C. 7410(k); 40 CFR 52.02(a). Thus, in reviewing SIP submissions, EPA's role is to approve State choices, provided that they meet the criteria of the Clean Air Act. Accordingly, this proposed action merely approves State law as meeting Federal requirements and does not impose additional requirements beyond those imposed by State law. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have Tribal implications as specified by Executive Order 13175 (65 FR 67249, November 9, 2000), because the SIP is not approved to apply in Indian country located in the State, and EPA notes that it will not impose substantial direct costs on Tribal governments or preempt Tribal law.

List of Subjects in 40 CFR Part 52

Environmental protection, Air pollution control, Carbon Monoxide, Hydrocarbons, Incorporation by reference, Intergovernmental relations, Lead, Nitrogen oxides, Ozone, Particulate matter, Reporting and recordkeeping requirements, Sulfur oxides, Volatile organic compounds.

Authority: 42 U.S.C. 7401 et seq.

Dated: February 15, 2011.
Al Armendariz,
Regional Administrator, Region 6.

[FR Doc. 2011-4247 Filed 2-24-11; 8:45 am]

BILLING CODE 6560-50-P